DEPARTMENT OF THE INTERIOR

Bureau of Land Management

[ID-420-2824-JT-FM01, DEG080005]

Notice of Intent To Prepare an Environmental Impact Statement for the Whiskey South II Vegetation Management Project, Cottonwood Field Office, Idaho County, ID

AGENCY: Bureau of Land Management, Interior.

ACTION: Notice of intent (NOI) to prepare an environmental impact statement.

SUMMARY: The Bureau of Land Management Cottonwood Field Office will prepare an environmental impact statement (EIS) consistent with the regulations pertaining to the National Environmental Policy Act (NEPA) and address key components of the National Fire Plan. Under the provisions of Section 102(2)(c) of the NEPA, the BLM announces its intentions to prepare an EIS and solicit public comments regarding issues and resource information for this project. The purpose of the Whiskey South II project is to reduce existing and potential fuel loads to reduce the potential of high-intensity large-scale wildfire, improve the safety and effectiveness of firefighters in fire suppression activities, contribute to the economic and social well being of residents and visitors within proximity to the project area, maintain and improve water quality and fish habitat, and improve wildlife habitat and forage opportunities.

DATES: The public scoping period for the Whiskey South II project will begin with publication of this notice. The purpose of the public scoping process is to determine relevant issues that will influence the scope of the environmental analysis and EIS alternatives. The BLM will notify the public of any other opportunities for involvement for this proposal at least 15 days prior to the event. Meeting dates, locations and times will be announced by news release to the media including local newspapers and radio stations, individual mailings, and postings on the following BLM Web site: http://www.blm.gov/id/st/en/fo/cottonwood.html. To be most helpful, you should submit formal scoping comments within 30 days after this NOI is published. The draft EIS is expected to be distributed for public review and comment in the spring of 2009. The final environmental impact statement is expected to be ready four to six months later.

ADDRESSES: More detailed information about this project, including a map, is available at the Cottonwood Field Office, 1 Butte Drive, Cottonwood, Idaho 83522. Please submit written comments to the Cottonwood Field Office, Attn: Stephanie Connolly, at the above address. Fax comments to (208) 962-3275, or e-mail them to cynthia_weston@blm.gov. Please indicate Whiskey South II in the subject line.

FOR FURTHER INFORMATION CONTACT: Cindy Weston, Project Leader, (208) 769-5114 or e-mail: cynthia_weston@blm.gov; Robbin Boyce, Assistant Cottonwood Field Office Manager, (208) 962-3793 or e-mail: robbin_boyce@blm.gov.

SUPPLEMENTARY INFORMATION: On August 24, 2005, a scoping letter for the Whiskey South II proposal was mailed to known interested groups and individuals. Based on the comments that were received and from the interdisciplinary team's knowledge of the issues and other projects in this area, it has been determined that further analysis is warranted and an EIS will be prepared.

The Cottonwood Field Office is seeking information, comments, and assistance from other agencies, organizations, Tribes, and individuals who may be interested in or affected by the Proposed Action. The Cottonwood Field Office will issue local press releases notifying the public of additional opportunities to meet with staff and to discuss the project in more detail. Issues previously identified during public scoping for this project as well as comments received as a result of this Notice will be used to prepare the EIS.

The proposed action would implement key components of the National Fire Plan as addressed in the 10-Year Cohesive Strategy by reducing hazardous fuels conditions; reduce the risk of high intensity wildland fire to life, property and natural resources in the Elk City wildland-urban interface; and maintain low intensity fire conditions where they exist. The proposed action implements recommendations from the Idaho County Wildland Fire and Mitigation Plan (2003). The proposed action would also maintain and improve water quality, fish and wildlife habitat and improve wildlife forage opportunities.

The proposed action includes vegetation management on about 710 acres using cable, tractor and helicopter yarding methods. Slash disposal will be accomplished through piling, burning, or utilization. Pre-commercial thinning (no timber harvest), followed by prescribed burning, would be conducted on about 10 acres. Riparian habitat conservation areas (RHCAs) adjacent to the South Fork Clearwater River and Crooked River would be treated only by burning, about 65 acres; no timber harvest or pre-commercial thinning would occur. The project would include temporary and new road construction. The new road would be behind a locked gate, and public motorized use would be restricted. Restoration activities are centered on transportation modifications. Approximately 5.1 miles of existing roads would be decommissioned, and another 3.5 miles would be closed to yearlong travel. Road upgrades, graveling and improving drainage would occur on 4.2 miles of existing road.

This project would remove dead and dying trees; manage forest stands to meet desired conditions of size, class and species distributions by removing dead and live trees; reduce ladder fuels; maintain existing fire resistant tree species in areas where understory trees are encroaching due to fire exclusion; improve quantity and quality of elk winter range by reducing conifer encroachment and stimulating browse species through use of prescribed fire; and improve aquatic resource conditions through various restoration activities such as placing rock on roads adjacent to live water crossings and road decommissioning.

Issues previously identified during public scoping for this project include the following:

• Road construction, sediment and water quality

• Fuel reduction methods and retention of old growth timber

• Treatments in landslide prone areas

• Community preparedness, economics and timber values

• Invasive species, snowmobile access, wild and scenic rivers, and air quality

• Fisheries (resident, anadromous, and listed species) habitat

• Wildlife habitat, including big game hiding, security, thermal cover and travel corridors/connectivity; snag and old growth habitat retention

• Cumulative impacts of past and likely future activities in the Elk City area

If you have specific issues or other concerns that BLM should consider in the NEPA process, please identify them in writing. You may send comments to the BLM by mail, facsimile, or electronic mail. Comments may also be hand-delivered to the Cottonwood Field Office. Before including your address, phone number, e-mail address, or other personal identifying information in your comment, you should be aware that your entire comment—including your personal identifying information—may be made publicly available at any time. While you can ask us in your comment to withhold your personal identifying information from public review, we cannot guarantee that we will be able to do so.

Dated: May 20, 2008.
Gary D. Cooper,
District Manager.

[FR Doc. E8-11722 Filed 5-23-08; 8:45 am]

BILLING CODE 4310-GG-P